DEPARTMENT OF TRANSPORTATION

Federal Aviation Administration

14 CFR Part 39

[Docket No. FAA-2012-0272; Directorate Identifier 2011-NM-042-AD; Amendment 39-16989; AD 2012-06-08]

RIN 2120-AA64

Airworthiness Directives; Airbus Airplanes

AGENCY: Federal Aviation Administration (FAA), Department of Transportation (DOT).

ACTION: Final rule; request for comments.

SUMMARY: We are adopting a new airworthiness directive (AD) for certain Airbus Model A340-211, -212, -311, and -312 airplanes. This AD requires repetitive inspections for cracking at the fastener hole area just above stringer 28, of both left- and right-hand fuselage frame 39.1, and repair if necessary. This AD was prompted by a determination that certain airplanes were not included in a certain airworthiness limitation item (ALI) task (inspections for cracking of the fuselage frame 39.1) and that the inspections must be done to address the identified unsafe condition. We are issuing this AD to detect and correct cracking in the fuselage that could result in reduced structural integrity of the airplane.

DATES: This AD becomes effective April 9, 2012.

The Director of the Federal Register approved the incorporation by reference of a certain publication listed in the AD as of April 9, 2012.

We must receive comments on this AD by May 7, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1149.

SUPPLEMENTARY INFORMATION:

Discussion

The European Aviation Safety Agency (EASA), which is the Technical Agent for the Member States of the European Community, has issued EASA Airworthiness Directive 2010-0245, dated November 26, 2010 (referred to after this as “the MCAI”), to correct an unsafe condition for the specified products. The MCAI states:

Airworthiness Limitation Item (ALI) task 533105-01-01 is applicable to aeroplanes on which Airbus modification 40391 has not been embodied in production. The requirements associated to this task are applicable to aeroplanes on which Modification Proposal (MP-S10437) has not been embodied.

Following a query from an operator, investigations revealed that some MSN [manufacturer serial number], for which Airbus modification 40391 was indicated as fully embodied inside the Aircraft Inspection Report (AIR), did not have Modification Proposal (MP-S10437) which is part of this modification embodied in production.

As a result, ALI task 533105-01-01 has not been taken into account for some MSN listed in the applicability section of this AD, which constitutes an unsafe condition.

For the reasons described above, this [EASA] AD requires repetitive special detailed inspections [for cracking] corresponding to ALI task 533105-01-01 and the accomplishment of the associated corrective actions [repair], for all aeroplanes to which this task is applicable. Airworthiness Limitation Item (ALI) task 533105-01-01 will be deleted in the next ALS [Airworthiness Limitations Section] Part 2 revision.

The unsafe condition is cracking in the fuselage that could result in reduced structural integrity of the airplane. You may obtain further information by examining the MCAI in the AD docket.

Relevant Service Information

Airbus has issued Mandatory Service Bulletin A340-53-4184, including Appendices 01 and 02, dated October 5, 2010. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2012-0272; Directorate Identifier 2011-NM-042-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-06-08 Airbus: Amendment 39-16989. Docket No. FAA-2012-0272; Directorate Identifier 2011-NM-042-AD.

(a) Effective Date

This airworthiness directive (AD) becomes effective April 9, 2012.

(b) Affected ADs

None.

(c) Applicability

This AD applies to Airbus Model A340-211, -212, -311, and -312 airplanes; certificated in any category; having manufacturer serial numbers (MSN) 0002, 0003, 0005 through 0009 inclusive, 0011, 0013, 0014, 0015, 0018 through 0023 inclusive, 0025, 0026, and 0027.

(d) Subject

Air Transport Association (ATA) of America Code 53: Fuselage.

(e) Reason

This AD was prompted by a determination that certain airplanes were not included in a certain airworthiness limitation item (ALI) task (inspections for cracking of the fuselage frame 39.1) and that the inspections must be done to address the identified unsafe condition. We are issuing this AD to detect and correct cracking in the fuselage that could result in reduced structural integrity of the airplane.

(f) Compliance

You are responsible for having the actions required by this AD performed within the compliance times specified, unless the actions have already been done.

(g) Inspection

At the later of the times specified in paragraphs (g)(1) or (g)(2) of this AD: Do an ultrasonic inspection for cracking at the fastener hole area just above stringer 28, of both left- and right-hand fuselage frame 39.1, in accordance with the Accomplishment Instructions of Airbus Mandatory Service Bulletin A340-53-4184, excluding Appendices 01 and 02, dated October 5, 2010. Repeat the inspection thereafter at intervals not to exceed 7,850 flight cycles or 53,300 flight hours, whichever occurs first.

(1) Before the accumulation of 13,600 total flight cycles or 92,100 total flight hours since the first flight of the airplane, whichever occurs first; or

(2) Within 6 months after the effective date of this AD.

(h) Repair

If any cracking is found during any inspection required by paragraph (g) of this AD, before further flight, repair the crack using a method approved by Manager, International Branch, ANM-116, Transport Airplane Directorate, FAA; or European Aviation Safety Agency (EASA) (or its delegated agent).

(i) Credit for Previous Actions

This paragraph provides credit for the initial inspection only, as required by paragraph (g) of this AD, if the inspection was done before the effective date of this AD using Task 533105-01-01, “Special Detailed Inspection of Fuselage Internal Structure, Fastener Hole Area Above Stringer 28 at FR 39.1 Web Junction on Hoist Fitting, LH/RH,” of Section 2.1, “A340-200/300 Airworthiness Limitations,” of the Airworthiness Limitations Section (ALS), Part 2 “Damage-Tolerant Airworthiness Limitation Items,” of the Airbus A340 Airworthiness Limitation Items (ALI) document 95A.0051/97, Issue 11, dated February, 2009.

(j) Other FAA AD Provisions

The following provisions also apply to this AD:

(1) Alternative Methods of Compliance (AMOCs): The Manager, ANM-116, International Branch, has the authority to approve AMOCs for this AD, if requested using the procedures found in 14 CFR 39.19. In accordance with 14 CFR 39.19, send your request to your principal inspector or local Flight Standards District Office, as appropriate. If sending information directly to the International Branch, send it to Attn: Vladimir Ulyanov, Aerospace Engineer, International Branch, ANM-116, Transport Airplane Directorate, FAA, 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

Refer to Mandatory Continuing Airworthiness Information (MCAI) European Aviation Safety Agency (EASA) Airworthiness Directive 2010-0245, dated November 26, 2010; and Airbus Mandatory Service Bulletin A340-53-4184, excluding Appendices 01 and 02, dated October 5, 2010; for related information.

(l) Material Incorporated by Reference

(1) You must use the following service information to do the actions required by this AD, unless the AD specifies otherwise. The Director of the Federal Register approved the incorporation by reference (IBR) of the following service information under 5 U.S.C. 552(a) and 1 CFR part 51:

(i) Airbus Mandatory Service Bulletin A340-53-4184, dated October 5, 2010.

(2) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on March 7, 2012.
Ali Bahrami,
Manager, Transport Airplane Directorate, Aircraft Certification Service.

[FR Doc. 2012-6778 Filed 3-22-12; 8:45 am]

BILLING CODE 4910-13-P